DEPARTMENT OF ENERGY

Federal Energy Regulatory Commission

[Docket No. IC01-576-000, FERC-576]

Proposed Information Collection and Request for Comments

July 19, 2001.

AGENCY: Federal Energy Regulatory Commission, DOE.

ACTION: Notice of proposed information collection and request for comments.

SUMMARY: In compliance with the requirements of Section 3506(c)(2)(a) of the Paperwork Reduction Act of 1995 (Pub. L. 104-13), the Federal Energy Regulatory Commission (Commission) is soliciting public comment on the specific aspects of the information collection described below.

DATES: Consideration will be given to comments submitted on or before September 24, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-1415, and by e-mail at mike.miller@ferc.fed.us.

SUPPLEMENTARY INFORMATION: The information collected under the requirements of FERC-576 “Report by Certain Natural Gas Companies on Service Interruptions” (OMB No. 1902-0004 is used by the Commission to implement the statutory provisions of Sections 4, 7, 10 and 16, of the Natural Gas Act (NGA)(PL 75-688, 52 Stat. 821-833, 15 U.S.C. 717-717w). The Commission is empowered to oversee continuity of service in the transportation of natural gas in interstate commerce. The information collected by FERC-576 notifies the Commission in a timely manner of any interruption of service or possible hazard to public health or safety.

The Commission in response to timely notification of a serious interruption, may contact other pipelines to determine available supply, and if required, authorize transportation or construction of facilities to alleviate the problem. The data collected pertains to serious interruptions of service to any wholesale customer involving facilities operated under certificate authorization from the Commission. Specifically, the data collected may include: (1) Date of service interruption, (2) date of reporting the interruption to the Commission, (3) the location, (4) brief description of facility involved and cause of interruption, (5) customers affected, (6) duration of interruption, and (7) volumes of gas interrupted.

These data are required by the Commission to provide timely information concerning interruptions to wholesale service. The reporting of these interruptions will assist the Commission and the natural gas industry in fulfilling their obligations to the public to provide better service through increased efficiency and reliability. The data required to be filed for notification of interruptions is specified by 18 Code of Federal Regulations (CFR) 260.9.

Action: The Commission is requesting a three-year extension of the current expiration date, with no changes to the existing collection of data.

Burden Statement: Public reporting burden for this collection is estimated as:

Number of respondents annually | Number of responses per respondent | Average burden hours per response | Total annual burden hours
(1) | (2) | (3) | (1)×(2)×(3)
15 | 1 | 1 | 15

The estimated total cost to respondents is $844 (15 hours divided by 2,080 hours per year per employee times $117,041 per year per average employee = $844). The cost per respondent is $56.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

David P. Boergers,
Secretary.

[FR Doc. 01-18487 Filed 7-24-01; 8:45 am]

BILLING CODE 6717-01-P